FEDERAL COMMUNICATIONS COMMISSION

[Report No. 2761]

Petitions for Reconsideration of Action in Rulemaking Proceeding

February 16, 2006.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by March 23, 2006. See Section 1.4(b)(1) of the Commission's rules (47 CFR 1.4(b)(1)). Replies to an opposition must be filed within 10 days after the time for filing oppositions has expired.

Subject:

In the Matter of Review of Improving Public Safety Communications in the 800 MHz Band (WT Docket No. 02-55).

In the Matter of Consolidating the 800 and 900 MHz Industrial/Land Transportation and Business Pool Channels (WT Docket No. 02-55).

In the Matter of Amendment of Part 2 of the Commission's Rules to Allocate Spectrum Below 3 GHz for Mobile and Fixed Services to Support the Introduction of New Advanced Wireless Services, including Third Generation Wireless Systems (ET Docket No. 00-258).

In the Matter of Amendment of Section 2.106 for the Commission's Rules to Allocate Spectrum at 2 GHz for Use by the Mobile Satellite Service (ET Docket No. 95-18).

Number of Petitions Filed: 12.

Marlene H. Dortch,
Secretary.

[FR Doc. E6-3288 Filed 3-7-06; 8:45 am]

BILLING CODE 6712-01-P